Title 3—

The President

Proclamation 8040 of August 21, 2006

Women's Equality Day, 2006

By the President of the United States of America

A Proclamation

The ratification of our Constitution's 19th Amendment on August 26, 1920, marked a turning point for America as women were guaranteed the right to vote. On Women's Equality Day, we celebrate this milestone and pay tribute to the inspiring individuals who stepped forward and asked our Nation to live up to its founding principle of equality for all.

The struggle for women's rights is a story of strong women joining together to break down the barriers to equality. With courage and determination, Lucretia Mott, Elizabeth Cady Stanton, Susan B. Anthony, and other suffragists inspired generations of women and helped change the path of our Nation's history. The Seneca Falls Convention of 1848 sparked a mass movement for women's voting rights that gained support from women of all ages and backgrounds. In 1890, Wyoming became the first State whose constitution allowed women to vote, and by 1918, women could vote in 14 additional States. Two years later, women secured nationwide suffrage with the passage of the 19th Amendment. By demanding participation in the democratic process, these visionaries helped spread freedom, justice, and hope for generations to come.

Women today are continuing the suffragists' legacy of leadership and strength. They are shaping the future through their contributions to all aspects of American life, including science, law, business, education, athletics, and the arts. They are serving our Nation with honor and distinction in our Armed Forces. American women have served as examples for women in other countries in their efforts to increase their participation in civic and political life. Our Nation remains committed to advancing the equality of women in the world's newest democracies and fighting threats to women around the globe.

The courage of American suffragists made our Nation a stronger and more hopeful place, and we will continue to build an America where the dignity of every person is respected and where opportunity is within reach of all our citizens. On Women's Equality Day, we honor the contributions and accomplishments of women throughout our history, and we pay tribute to all those who helped bring equality to women in America.

NOW, THEREFORE, I, GEORGE W. BUSH, President of the United States of America, by virtue of the authority vested in me by the Constitution and laws of the United States, do hereby proclaim August 26, 2006, as Women's Equality Day. I call upon the people of the United States to celebrate the achievements of women and observe this day with appropriate programs and activities.

IN WITNESS WHEREOF, I have hereunto set my hand this twenty-first day of August, in the year of our Lord two thousand six, and of the Independence of the United States of America the two hundred and thirty-first.

B

[FR Doc. 06-7179

Filed 8-23-06; 8:47 am]

Billing code 3195-01-P